DEPARTMENT OF THE TREASURY

31 CFR Part 10

[REG-122379-02]

RIN 1545-BA70

Regulations Governing Practice Before the Internal Revenue Service; Hearing

AGENCY: Departmental Offices, Treasury.

ACTION: Change of date of public hearing on proposed rulemaking.

SUMMARY: This document changes the date of a public hearing on proposed regulations relating to practice before the Internal Revenue Service.

DATES: The public hearing originally scheduled for Wednesday, February 18, 2004, at 10 a.m. is rescheduled for Thursday, February 19, 2004, at 10 a.m. Written or electronically submitted public comments are due on February 13, 2004. Outlines of topics to be discussed at the public hearing must be received by February 11, 2004.

ADDRESSES: The public hearing is being held in the auditorium of the Internal Revenue Building, 1111 Constitution Avenue, NW., Washington, DC. Due to building security procedures, visitors must enter at the Constitution Avenue entrance. Send submissions to: CC:PA:LPD:PR (REG-122379-02); Room 5203, Internal Revenue Service, POB 7604, Ben Franklin Station, Washington, DC 20044. Submissions may be hand delivered Monday through Friday between the hours of 8 a.m. and 4 p.m. to: CC:PA:LPD:PR (REG-122379-02) Courier's Desk, Internal Revenue Service, 1111 Constitution Avenue, NW., Washington, DC. Alternatively, comments may be transmitted electronically via the Internet by submitting comments directly to the IRS Internet site at: http://www.irs.gov/regs.

FOR FURTHER INFORMATION CONTACT: Guy R. Traynor of the Publication and Regulations Branch, Associate Chief Counsel (Procedures & Administration), at (202) 622-3693 (not a toll-free number).

SUPPLEMENTARY INFORMATION: A notice of proposed rulemaking and notice of public hearing appearing in the Federal Register on Tuesday, December 30, 2003 (68 FR 75186), announced that a public hearing on proposed regulations relating to practice before the Internal Revenue Service, would be held on Wednesday, February 18, 2004, beginning at 10 a.m., in the auditorium of the Internal Revenue Building at 1111 Constitution Avenue NW., Washington, DC.

The date of the public hearing has changed. The hearing is scheduled for Thursday, February 19, 2004, beginning at 10 a.m., in the auditorium of the Internal Revenue Building at 1111 Constitution Avenue, NW., Washington, DC. Outlines of topics to be discussed at the public hearing must be received by February 11, 2004.

Dated: January 30, 2004.
Richard S. Carro,
Senior Advisor to the General Counsel.

[FR Doc. 04-2297 Filed 2-3-04; 8:45 am]

BILLING CODE 4830-01-P